DEPARTMENT OF TRANSPORTATION

Federal Highway Administration

Environmental Impact Statement: Evansville, IN, and Henderson, KY

AGENCY: Federal Highway Administration (FHWA), DOT.

ACTION: Revised Notice of Intent.

SUMMARY: The FHWA is issuing this notice to advise the public that an Environmental Impact Statement (EIS), pursuant to the National Environmental Policy Act (NEPA), will be prepared for the proposed I-69 Corridor in the Evansville, Indiana and Henderson, Kentucky area. This Notice of Intent (NOI) represents a revision to the original NOI that was issued for the project on May 10, 2001 (66 FR 23966 May 10, 2001). Under the original NOI, a Draft Environmental Impact Statement (DEIS) was completed in 2004 but the project was subsequently suspended in 2005. This NOI reinitiates the NEPA process for the project.

FOR FURTHER INFORMATION CONTACT: Michelle Allen, Planning and Environmental Specialist, Federal Highway Administration, Indiana Division, 575 N. Pennsylvania Avenue, Room 254, Indianapolis, Indiana 46204, Telephone 317-226-7344, Email michelle.allen@dot.gov; Laura Hilden, Director of Environmental Services, Indiana Department of Transportation, 100 North Senate Avenue, Room N642, Indianapolis, Indiana 46204, Telephone 317-232-5018, Email lhilden@indot.in.gov; or David Waldner, Director, Division of Environmental Analysis, Kentucky Transportation Cabinet, 200 Mero Street, Frankfort, Kentucky 40622, Telephone 502-564-7250, Email david.waldner@ky.gov.

SUPPLEMENTARY INFORMATION: The FHWA, in cooperation with the Indiana Department of Transportation (INDOT) and the Kentucky Transportation Cabinet (KYTC), will prepare an EIS to identify a preferred alternative for the I-69 Corridor through the Evansville, Indiana-Henderson, Kentucky area. The project area will extend from I-69 south of Evansville (formerly I-164) across the Ohio River to the Edward T. Breathitt Pennyrile Parkway (now designated as I-69 up to Mile Point 76.9) near Henderson. The study will build upon the information developed for the 2004 DEIS, the 2008 Conceptual Financing Plan for I-69 Corridor conducted by KYTC, the 2013 I-69 Innovative Financing Study conducted by the Arkansas State Highway and Transportation Department (AHTD) (serving as the project manager for the seven-state I-69 Steering Committee), and the 2014 I-69 Feasibility Study conducted by KYTC. The proposed project would provide an interstate-type facility with at least two lanes in each direction separated by a median. The EIS will analyze environmental, cultural, social, and economic impacts associated with the development of the proposed action.

The project's purpose and need that was developed as part of the 2004 DEIS included the following: (1) Support the completion of the National I-69; (2) Provide sufficient cross-river mobility in the Evansville/Henderson area; and (3) Strengthen the transportation network in the Evansville/Henderson area. The 2004 DEIS initially identified ten alternatives, including six alternatives west of the Evansville/Henderson area; one alternative following existing US 41; one alternative using the Edward T. Breathitt Pennyrile Parkway north to US 41 and continuing north on US 41 to I-164; and two alternatives east of US 41. The northern terminus for all of the alternatives was I-64 north of Evansville. The southern terminus for all the alternatives was the Edward T. Breathitt Pennyrile Parkway south of Henderson. Based on the ability to meet the project's purpose and need, environmental impacts, costs, and public and agency input, the DEIS identified Alternative 2 as the Preferred Alternative. The DEIS Preferred Alternative utilized the existing I-164 alignment (now designated I-69) from its northern terminus at I-64 in Warrick County, to just east of the Green River Road interchange and west of Angel Mounds State Memorial Site. From that location, the alternative left the existing I-164 alignment and traveled along a new alignment south across the Ohio River immediately west of the mouth of the Green River. The new route continued south to KY 351, then southwest to the Edward T. Breathitt Pennyrile Parkway (now designated I-69). The alternative was 30.2 miles in length and utilized 18.6 miles of the existing I-164.

The 2014 Feasibility Study conducted by KYTC reexamined the possibility of providing a single, new Ohio River bridge at Henderson, replacing the existing US 41 bridges. Seven alternatives, some with variations, were developed and evaluated. The 2014 Feasibility Study also introduced a modified version of the DEIS Preferred Alternative, designated as Alternative 1, that used the same Ohio River crossing location, but connected to the Edward T. Breathitt Pennyrile Parkway just south of Henderson and farther north than the DEIS Preferred Alternative to take advantage of the improvements to and the designation of the Edward T. Breathitt Pennyrile Parkway as I-69.

This EIS will review and update, as needed, the purpose and need from the 2004 DEIS and will consider changes to the project termini as a result of I-164 and Edward T. Breathitt Pennyrile Parkway being designated as I-69. It will also review and update the alternatives development and screening process based on the updated purpose and need and project termini. New alternatives will be developed and evaluated, as appropriate, and it is anticipated that this project will consider the potential use of tolls as part of its funding plan.

With the resumption of the project, the public and federal, state, and local agencies will be invited to participate in scoping meetings to review the project's purpose and need and range of alternatives to be considered. These meetings will be scheduled at a later date. Public and agency meetings will also be held at key milestones throughout the EIS process to present project information and to obtain public and agency input. In addition, a project Web site will be established and public information offices will be set up in both Evansville and Henderson to allow the public to view project information and provide comments. Project e-newsletters and social media will also be used to present project information and issue notices of upcoming events.

Comments or questions concerning this proposed action and the EIS should be directed to the FHWA, INDOT, or KYTC contacts at the addresses provided above.

(Catalog of Federal Domestic Assistance Program No. 20.205, Highway Planning and Construction. The regulations implementing Executive Order 12372 regarding intergovernmental consultation on Federal programs and activities apply to the program).

Authority: 23 U.S.C. 315; 49 CFR 1.48.

Dated: February 6, 2017.
Mayela Sosa,
Division Administrator, FHWA, Indianapolis, Indiana.

[FR Doc. 2017-02861 Filed 2-10-17; 8:45 am]

BILLING CODE P